DEPARTMENT OF VETERANS AFFAIRS

[OMB Control No. 2900-0112]

Agency Information Collection Activities Under OMB Review

AGENCY: Veterans Benefits Administration, Department of Veterans Affairs.

ACTION: Notice.

SUMMARY: In compliance with the Paperwork Reduction Act (PRA) of 1995 (44 U.S.C. 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before June 5, 2003.

FOR FURTHER INFORMATION CONTACT: Denise McLamb, Records Management Service (005E3), Department of Veterans Affairs, 810 Vermont Avenue, NW., or e-mail denise.mclamb@mail.va.gov. Please refer to “OMB Control No. 2900-0112.” Send comments and recommendations concerning any aspect of the information collection to VA's OMB Desk Officer, OMB Human Resources and Housing Branch, New Executive Office Building, Room 10235, Washington, DC 20503 (202) 395-7316. Please refer to “OMB Control No. 2900-0112” in any correspondence.

SUPPLEMENTARY INFORMATION: Title: Statement of Holder or Servicer of Veteran's Loan, VA Form 26-559.

OMB Control Number: 2900-0112.

Type of Review: Extension of a currently approved collection.

Abstract: Veteran-borrowers may sell their homes subject to the existing VA-guaranteed mortgage lien without prior approval of VA if the commitment for the loan was made prior to March 1, 1988. However, if they request for release from personal liability to the Government in the event of a subsequent default by a transferee, VA must determine that (1) loan payments are current; (2) the transferee will assume the veteran's legal liabilities in connection with the loan; and (3) the purchaser qualifies from a credit standpoint. A veteran-borrower may sell his or her home to a veteran-transferee. However, eligible transferees must meet all the requirements in addition to having sufficient available loan guaranty entitlement to replace the amount of entitlement used by the seller in obtaining the original loan.

An agency may not conduct or sponsor, and a person is not required to respond to a collection of information unless it displays a currently valid OMB control number. The Federal Register Notice with a 60-day comment period soliciting comments on this collection of information was published on January 30, 2003 at pages 4814-4815.

Affected Public: Individuals or households, Business or other for profit.

Estimated Annual Burden: 1,167 hours.

Estimated Average Burden Per Respondent: 10 minutes.

Frequency of Response: On occasion.

Estimated Number of Total Respondents: 7,000.

Dated: April 21, 2003.
By direction of the Secretary.
Loise Russell,
Acting Director, Records Management Service.

[FR Doc. 03-11203 Filed 5-5-03; 8:45 am]

BILLING CODE 8320-01-P